SECURITIES AND EXCHANGE COMMISSION

[Release No. 34-71466]

Draft 2014-2018 Strategic Plan for Securities and Exchange Commission

AGENCY: Securities and Exchange Commission.

ACTION: Request for comment.

SUMMARY: The Securities and Exchange Commission (SEC) is providing notice that it is seeking comments on its draft 2014-2018 Strategic Plan. The draft Strategic Plan includes a draft of the SEC's mission, vision, values, strategic goals, planned initiatives, and performance goals.

DATES: Comments should be received on or before March 10, 2014.

ADDRESSES: Comments may be submitted by any of the following methods:

Electronic Comments

Send an email to PerformancePlanning@sec.gov.

Paper Comments

Send paper comments to Vikash Mohan, Program Analyst, Securities and Exchange Commission, 100 F Street NE., Washington, DC 20549-2521.

FOR FURTHER INFORMATION CONTACT: Vikash Mohan, Program Analyst, Office of Financial Management, at (202) 551-8522, Securities and Exchange Commission, 100 F Street NE., Washington, DC 20549-2521.

SUPPLEMENTARY INFORMATION: The draft strategic plan is available at the Commission's Web site at http://www.sec.gov/about/secstratplan1418.htm or by contacting Vikash Mohan, Program Analyst, Office of Financial Management, at (202) 551-8522, Securities and Exchange Commission, 100 F Street NE., Washington, DC 20549-2521.

By the Commission.
Dated: February 3, 2014.
Elizabeth M. Murphy,
Secretary.

[FR Doc. 2014-02518 Filed 2-5-14; 8:45 am]

BILLING CODE 8011-01-P